DEPARTMENT OF THE INTERIOR

National Park Service

[NPS-WASO-PVE-UPARR-20492; PPWOSLAD00, PUA00UA08.GA0000 (166)]

Proposed Information Collection; Urban Park and Recreation Recovery Program Grants

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on October 31, 2016. We may not conduct or sponsor and a person is not required to respond to a collection of information unless it displays a currently valid OMB control number.

DATES: To ensure that we are able to consider your comments on this IC, we must receive them by May 10, 2016.

ADDRESSES: Please send your comments on the ICR to Madonna L. Baucum, Information Collection Clearance Officer, National Park Service, 12201 Sunrise Valley Drive, Room 2C114—Mail Stop 242, Reston, VA 20192 (mail); or madonna_baucum@nps.gov (email). Please include “1024-0048—UPARR” in the subject line of your comments.

FOR FURTHER INFORMATION CONTACT: To request additional information about this IC, contact Elisabeth Fondriest, Recreation Grants Chief, State and Local Assistance Programs Division at 202-354-6916; or 1849 C Street NW. (2225), Washington, DC 20240 (mail); or elisabeth_fondriest@nps.gov (email). Please include “1024-0048” in the subject line.

SUPPLEMENTARY INFORMATION:

I. Abstract

The Urban Park and Recreation Recovery (UPARR) Act (16 U.S.C. 2501 et seq.) was passed as Title X of the National Parks and Recreation Act of 1978. The UPARR Act authorized the Secretary of the Interior to establish a grant program to help economically distressed urban areas improve recreation opportunities for their residents.

We administer the UPARR program in accordance with regulations at 36 CFR 72 and the UPARR Grant Manual. These (1) explain the policies to be followed for awarding grants; (2) list the requirements and criteria to be met for each type of grant and discretionary eligibility; (3) discuss fundable uses and limitations; (4) explain how proposals will be selected and funding; and (5) describe the application process and administrative procedures for awarding grants. The three types of grants available under the program are:

• Rehabilitation—renovate or redesign existing close-to-home recreation facilities.

• Innovation—specific activities that either increase recreation programs or improve the efficiency of the local government to operating existing programs.

• Planning—development of a Recovery Action Program plan.

The following are the information collection requirements for the UPARR Program:

(1) Recovery Action Program: In accordance with 36 CFR 72.10-13, any eligible jurisdiction or discretionary applicant desiring to apply for a grant must develop and submit for NPS approval, a local Recovery Action Program (RAP). The RAP documents the recreation needs of the community and is linked to the objectives, needs, plans, and institutional arrangements of the community. The RAP consists of two sections, which are the Assessment and the Action Plan.

The Assessment describes the existing park and recreation system; issues and problems; goals and objectives. The Assessment summarizes the entire system including: Operation and maintenance; employment and training; programs and services; rehabilitation of existing facilities; and the need for new facilities. The six parts of the Assessment include: Context; physical issues; rehabilitation issues; service issues; management issues; and conclusions, implications, and issues.

The Action Plan is a clear statement of the community's specific objectives, priorities and implementation strategies in relation to the intent of the UPARR Program and the local government's overall recreation system goals. Citizen involvement in the development of the Action Plan is required and may include surveys, hearings, meetings, and/or consultation, as appropriate, which is essential in the development of goals, objectives and the setting of project priorities. The Action Plan identifies: The goals for the system; strategies to address national and local concerns, recommendations; program priorities and implementation schedule; and an evaluation of and update to the Action Program.

In accordance with 36 CFR 72.30, applicants must have an approved RAP on file with the appropriate NPS Regional Office prior to applying for Rehabilitation or Innovation grants. Rehabilitation and Innovation proposals must be based on priorities identified in the applicant jurisdiction's RAP.

(2) Recovery Action Program Grant Applications: In accordance with 36 CFR 72.52, ranking and selection for funding of Recovery Action Program grants will be initiated on the basis of a full application, preparation of which will be assisted through meetings with NPS regional staff. The following documents are required to be submitted with the Recovery Action Program Grant Application: OMB Standard Forms such as the SF-424, the RAP Grant Agreement (Form # 10-911), narrative statements with a description and scope of the planning product(s) to be developed, a project budget, and a work schedule.

(3) Preapplication for Rehabilitation and Innovation Grants: In accordance with 36 CFR 72.53, a preapplication procedure is used to reduce the amount of time and documentation needed for a full application, and to foster the competitive aspects of the UPARR Program. The preapplication must include those items as set forth in the Preapplication Handbook, to include: A letter of transmittal, SF-424, proposal description statement, a narrative describing how the project meets the selection criteria, maps, photographs (for construction projects), cost estimates, and pass through certifications (if applicable). The application must describe the problem addressed by the proposal, including existing conditions, the reason for the problem or why the condition exists, and what the UPARR assistance would do to alleviate the problem or condition. Discretionary applicants must also submit a narrative statement, signed by the chief executive of the applicant jurisdiction, explaining and quantifying the degree of physical and economic distress in the community must be included in each preapplication.

(4) Full Application—Rehabilitation and Innovation Grants: In accordance with 36 CFR 72.54, once a Rehabilitation or Innovation proposal has received a tentative grant offer, applicants will be responsible for completing a full application, which addresses compliance with the OMB regulation at 2 CFR part 200, as well as other applicable Federal laws and regulations such as environmental and historic preservation laws. A list of specific Acts and Executive Orders is in 36 CFR 72.56. A grant will not be approved until the applicant has completed a full application, which is due 120 days from the date of the grant offer.

Grant respondents must also complete and sign the UPARR Program Grant Rehabilitation and Innovation Agreement (currently approved under 1024-0089; Form #10-912). We use this information to document the obligations assumed by the respondent through its acceptance of Federal assistance including the rules and regulations applicable to the conduct of a project under the UPARR Act and any special terms and conditions to the project established by the NPS and agreed to by the respondent. This information also obligates the Federal government to provide grants up to the designated amount for eligible costs incurred on the project on the basis of information and estimates contained in the proposal.

(5) Amendments: Grantees must request prior written approval from NPS for an amendment to a project if the revision causes substantial changes in the scope, objective, or work elements such as the project period. To alter the grant agreement, grantees must complete and sign the Amendment to UPARR Grant Agreement (Form #10-915). The request must also include an SF-424, an explanation of and justification for the change(s), and if applicable, new budget information.

(6) Performance Reports: The UPARR Program Project Performance Report details the annual status of the projects and any changes that need to be implemented. We use this information to ensure that the grantee is accomplishing the work on schedule and to identify any problems that the grantee may be experiencing in accomplishing that work. Performance Reports are needed to show quarterly or annual progress reports on the physical completion per percentage of each grant, financial expenditures to date, budget revisions if needed, work planned for the next year, and any additional information pertinent for grant completion.

(7) Conversion of Use: In accordance with Section 1010 of the UPARR Act and as codified in 36 CFR 72.72, no property improved or developed with UPARR assistance can be converted to other than public recreation uses without the approval of the NPS. A conversion will only be approved if it is found to be in accord with the current local park and recreation Recovery Action Program and/or equivalent recreation plans and only upon such conditions as deemed necessary to assure the provision of adequate recreation properties and opportunities of reasonably equivalent location and usefulness. To request a conversion, the grantee must submit the following documentation: An amendment request, a narrative statement comparing the site to be converted with the proposed replacement site addressing factors such as physical size, location, carrying capacity, and facilities; maps (location, site, and Section 1010 boundary); and evidence of the grantee's control and tenure over the replacement site.

(8) Recordkeeping Requirements: In accordance with 36 CFR 72.60(b), applicants must maintain adequate financial records to support all expenditures or costs covered by a Recovery Action Program, Rehabilitation, or Innovation project grant, as specified in the OMB regulations at 2 CFR part 200 for a period of 3 years after final payment on a project. The records must be retained beyond the 3-year period if audit findings have not been resolved.

II. Data

OMB Control Number: 1024-0048.

Title: Urban Park and Recreation Recovery Program Grants, 36 CFR 72.

Service Form Numbers: NPS Forms 10-911, 10-912, and 10-915.

Type of Request: Extension of a currently approved collection.

Description of Respondents: State Governments; the Commonwealths of Puerto Rico and the Northern Mariana Islands; the District of Columbia; and the territories of Guam, U.S. Virgin Islands, and American Samoa.

Respondent's Obligation: Required to obtain or retain a benefit.

Frequency of Collection: On occasion.

Activity | Number of respondents | Number of annual responses | Completion time per response (hours) | Total annual burden hours
Recovery Action Program | 1 | 1 | 80 hours | 80
Recovery Action Program Grant Applications | 1 | 1 | 3.5 hours | 3.5
Pre-application for Rehabilitation or Innovation Grants | 1 | 1 | 10 hours | 10
Final Application for Rehabilitation or Innovation Grants | 1 | 1 | 10.5 hours | 10.5
Grant Amendments | 1 | 1 | 3.5 hours | 3.5
Performance Reports | 1 | 1 | 1 hour | 1
Conversion of Use Request | 1 | 1 | 70 hours | 70
Recordkeeping Requirements | 1 | 1 | 2 hours | 2
Totals | 8 | 8 |  | 180.5

Estimated Annual Nonhour Cost Burden: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: March 7, 2016.
Madonna L. Baucum,
Information Collection Clearance Officer, National Park Service.

[FR Doc. 2016-05560 Filed 3-10-16; 8:45 am]

BILLING CODE 4310-EH-P